DEPARTMENT OF COMMERCE

National Oceanic and Atmospheric Administration

RIN 0648-XM41

North Pacific Fishery Management Council; Public Meeting

AGENCY: National Marine Fisheries Service (NMFS), National Oceanic and Atmospheric Administration (NOAA), Commerce.

ACTION: Notice of a public meeting.

SUMMARY: The North Pacific Fishery Management Council's (Council) Salmon Bycatch Workgroup will meet in Anchorage, AK.

DATES: The meeting will be held on January 20, 2009, from 10 a.m. to 5 p.m.

ADDRESSES: The meeting will be held at the Hilton Hotel, 500 West 3rd Avenue, Fireweed Room, Anchorage AK.

Council address: North Pacific Fishery Management Council, 605 W. 4th Ave., Suite 306, Anchorage, AK 99501-2252.

FOR FURTHER INFORMATION CONTACT: Diana Stram, Council staff; telephone: (907) 271-2809

SUPPLEMENTARY INFORMATION: The Committee will review industry proposals for incentive-based salmon bycatch reduction programs in conjunction with the Council's forthcoming action on Chinook salmon bycatch management measures. The Committee will receive presentations and then provide their written comments and recommendations on these proposals to the Council for its consideration.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen at (907) 271-2809 at least 7 working days prior to the meeting date.

Dated: December 24, 2008.
Tracey L. Thompson,
Acting Director, Office of Sustainable Fisheries, National Marine Fisheries Service.

[FR Doc. E8-31075 Filed 12-30-08; 8:45 am]

BILLING CODE 3510-22-S